Proclamation 8746 of November 1, 2011

National Diabetes Month, 2011

By the President of the United States of America

A Proclamation

Though we have made substantial progress in combating diabetes, the number of Americans burdened by this disease continues to grow at a rapid pace. During National Diabetes Month, we commemorate the work of caregivers, researchers, medical professionals, and advocates who lead the fight against diabetes, and we recommit to educating ourselves and our communities about how we can manage, treat, and prevent this disease.

Diabetes can have a devastating impact on the health and well-being of those it affects, and it remains an urgent threat to our public health. In addition to immediate health issues, people with diabetes are more likely to suffer from complications such as heart attacks, strokes, high blood pressure, or kidney failure. Most often diagnosed in young people, Type 1 diabetes inhibits the body’s ability to produce insulin and can be managed with insulin injections, diet, and exercise. Research suggests that, unlike Type 1 diabetes, it is possible to prevent or delay Type 2 diabetes. Yet, Type 2 diabetes accounts for 90 percent of diabetes cases in the United States, and it continues to grow more prevalent in adults and children alike. It is essential that all Americans take steps to assess and reduce their risk of developing Type 2 diabetes by adopting a healthy diet, exercising regularly, and consulting a medical professional about their individual needs and risk factors.

My Administration remains committed to advancing diabetes education, research, prevention, and treatment. The National Diabetes Education Program—a partnership between the National Institutes of Health, the Centers for Disease Control and Prevention, and more than 200 public and private organizations—works to improve outcomes for people living with diabetes, encourage early diagnosis, and prevent or delay the onset of Type 2 diabetes. In addition, the National Diabetes Prevention Program serves as part of a coordinated national strategy to reduce the prevalence of Type 2 diabetes by encouraging healthy eating habits and offering group support for adults who are striving to lose weight and get physically active. The Affordable Care Act ensures that all Americans joining a new health plan can receive recommended preventive services, like diabetes screenings, with no out-of-pocket costs. And, by 2014, Americans will not be denied insurance coverage because they have diabetes or other pre-existing conditions.

The increase in Type 2 diabetes among our Nation’s children is linked to the rise of childhood obesity. To end the epidemic of childhood obesity within a generation, First Lady Michelle Obama’s Let’s Move! initiative is inspiring children to be physically active and empowering parents and caregivers to make healthy choices for their families. By encouraging our sons and daughters to develop healthy habits today, we help ensure they have a brighter, healthier tomorrow.

During National Diabetes Month, we remember those we have lost to diabetes, and we stand with the millions of Americans who have been touched by its consequences. As a Nation, it is our task to reduce the incidence of this illness and offer care and support to those it affects. This month and throughout the year, let us continue to pursue a diabetes-free future for our children, our families, and all Americans.

NOW, THEREFORE, I, BARACK OBAMA, President of the United States of America, by virtue of the authority vested in me by the Constitution and the laws of the United States, do hereby proclaim November 2011 as National Diabetes Month. I call upon all Americans, school systems, government agencies, nonprofit organizations, health care providers, research institutions, and other interested groups to join in activities that raise diabetes awareness and help prevent, treat, and manage the disease.

IN WITNESS WHEREOF, I have hereunto set my hand this first day of November, in the year of our Lord two thousand eleven, and of the Independence of the United States of America the two hundred and thirty-sixth.

[FR Doc. 2011-28841

Filed 11-3-11; 11:15 am]

Billing code 3295-F2-P